DEPARTMENT OF TRANSPORTATION

Federal Aviation Administration

14 CFR Part 71

[Docket No. FAA-2024-2573; Airspace Docket No. 23-AGL-20]

RIN 2120-AA66

Amendment of Jet Route J-538 and VOR Federal Airways V-129; Establishment of Canadian RNAV Routes Q-828, Q-945, Q-971, and T-797; and Revocation of Jet Routes J-483 and J-562; Northcentral United States

AGENCY: Federal Aviation Administration (FAA), DOT.

ACTION: Notice of proposed rulemaking (NPRM).

SUMMARY: This action proposes to amend Jet Route J-538 and Very High Frequency Omnidirectional Range (VOR) Federal Airway V-129; establish Canadian Area Navigation (RNAV) Routes Q-828, Q-945, Q-971, and T-797 within United States (U.S.) airspace; and revoke Jet Routes J-483 and J-562. The FAA is proposing this action due to NAV CANADA's decommissioning of the Sioux Narrows (VBI), Ontario (ON), Canada, Very High Frequency Omnidirectional Range (VOR)/Distance Measuring Equipment (VOR/DME) navigational aid (NAVAID) and the planned decommissioning of the Lumsden (VLN), Saskatchewan (SK), Canada, VOR/Tactical Air Navigation (VORTAC) and Brandon (YBR), Manitoba (MB), Canada, VORTAC NAVAIDs. This action is proposed in support of NAV CANADA's NAVAID Modernization Program within Canada.

DATES: Comments must be received on or before January 23, 2025.

ADDRESSES: Send comments identified by FAA Docket No. FAA-2024-2573 and Airspace Docket No. 23-AGL-20 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Colby Abbott, Rules and Regulations Group, Office of Policy, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

Jet Routes are published in paragraph 2004, Canadian Area Navigation Routes (Q-routes) are published in paragraph 2007, VOR Federal Airways are published in paragraph 6010(a), and Canadian Area Navigation Routes (T-routes) are published in paragraph 6013 of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. That order is publicly available as listed in the ADDRESSES section of this document.

FAA Order JO 7400.11J lists Class A, B, C, D, and E airspace areas, air traffic service routes, and reporting points.

Background

NAV CANADA, which operates Canada's civil air navigation service, is implementing changes to Canada's instrument flight rules (IFR) navigation infrastructure as part of their NAVAID Modernization Program. This modernization program is designed to enhance the efficiency of Canada's flying operations by taking advantage of performance-based navigation and RNAV avionics capabilities. The changes being implemented by NAV CANADA affect Jet Routes J-483, J-538, and J-562, and VOR Federal Airway V-129. These Air Traffic Service (ATS) routes provide cross-border connectivity between the U.S. and Canada.

NAV CANADA has decommissioned the Sioux Narrows, ON, VOR/DME and plans to decommission the Lumsden, SK, VORTAC and Brandon, MB, VORTAC as part of their NAVAID Modernization Program. As a result, amendments to J-538 and V-129, and revocation of J-483 and J-562 in U.S. airspace are required due to the loss of navigational guidance provided by the Sioux Narrows, ON; Lumsden, SK; and Brandon, MB, VORs and to match airway changes NAV CANADA is making within Canadian airspace. NAV CANADA has established Canadian RNAV Routes Q-828 in the high-altitude enroute structure and T-797 in the low-altitude enroute structure already and plans to establish Canadian RNAV Routes Q-945 and Q-971 in the high-altitude enroute structure as mitigations for the affected ATS routes within Canadian and U.S. airspace.

To mitigate the proposed loss of J-538 and V-129 route segments and proposed revocation of J-483 and J-562, and to support NAV CANADA's planned RNAV route replacements for these affected ATS routes, the FAA must establish portions of Canadian RNAV Routes Q-828, Q-945, Q-971, and T-797 within U.S. airspace. The new Canadian RNAV route segments in U.S. airspace would provide airway continuity with NAV CANADA's RNAV Routes that are established or being established within Canadian airspace and provide cross-border airway connectivity between the U.S. and Canada. Existing NAVAIDs that provide conventional enroute structure in the affected area are limited and alternate, parallel, or adjacent Jet Routes or VOR Federal Airways to use as mitigations are not available. To compensate for the loss of the conventional enroute structure, IFR pilots with RNAV-equipped aircraft could navigate using the Canadian RNAV Routes proposed in this action or fly point-to-point using the Fixes and Waypoints (WP) that would remain in place. Additionally, IFR pilots could request air traffic control (ATC) radar vectors to fly through or around the affected areas. Visual flight rules pilots who elect to navigate via airways could also take advantage of the ATC services listed previously.

The Proposal

The FAA is proposing to amend 14 CFR part 71 by amending Jet Route J-538 and VOR Federal Airway V-129; establishing Canadian RNAV Routes Q-828, Q-945, Q-971, and T-797 in U.S. airspace; and revoking Jet Routes J-483 and J-562. The FAA is proposing this action due to the decommissioning of the Sioux Narrows, ON, Canada, VOR/DME and the planned decommissioning of the Lumsden, SK, Canada, VORTAC and Brandon, MB, Canada, VORTAC by NAV CANADA in support of their NAVAID Modernization Program. The proposed ATS route actions are described below.

J-483: J-483 currently extends between the Minot, ND, VOR/DME and the Lumsden, SK, Canada, VORTAC. The airspace within Canada is excluded. The FAA proposes to remove the route in its entirety.

J-538: J-538 currently extends between the Sioux Narrows, ON, Canada, VOR/DME and the Badger, WI, VOR/DME. The airspace within Canada is excluded. The FAA proposes to remove the route segment between the Sioux Narrows, ON, VOR/DME and the Duluth, MN, VORTAC. As amended, the route would be changed to extend between the Duluth VORTAC and the Badger VOR/DME.

J-562: J-562 currently extends between the Dickinson, ND, VORTAC and the Brandon, MB, Canada, VORTAC. The airspace within Canada is excluded. The FAA proposes to remove the route in its entirety.

Q-828: Q-828 is a new Canadian RNAV route proposed to be established within U.S. airspace extending between the Duluth, MN, VORTAC and the FARID, MN, WP that would replace the “CFCJN” Computer Navigation Fix (CNF) on the U.S./Canada border. The new RNAV route would mitigate the proposed J-538 amendment and provide route continuity and cross-border connectivity with the RNAV Route Q-828 established by NAV CANADA within Canadian airspace.

Q-945: Q-945 is a new Canadian RNAV route proposed to be established within U.S. airspace extending between the Dickinson, ND, VORTAC and the OSMEE, ND, WP that would replace the “CFMSZ” CNF on the U.S./Canada border. The new RNAV route would mitigate the proposed J-562 revocation and provide route continuity and cross-border connectivity with the RNAV Route Q-945 being established by NAV CANADA within Canadian airspace.

Q-971: Q-971 is a new Canadian RNAV route proposed to be established within U.S. airspace extending between the Minot, ND, VOR/DME and the CIPTA, ND, WP that would replace the “CFHLT” CNF on the U.S./Canada border. The new RNAV route would mitigate the proposed J-483 revocation and provide route continuity and cross-border connectivity with the RNAV Route Q-971 being established by NAV CANADA within Canadian airspace.

V-129: V-129 currently extends between the Spinner, IL, VORTAC and the intersection of the International Falls, MN, VOR/DME 335° radial and United States/Canadian border. The FAA proposes to remove the airway segment between the International Falls VOR/DME and the intersection of the International Falls VOR/DME 335° radial and United States/Canadian border. As amended, the airway would be changed to extend between the Spinner VORTAC and the International Falls VOR/DME.

T-797: T-797 is a new Canadian RNAV route proposed to be established within U.S. airspace extending between the International Falls, MN, VOR/DME and the WUGOR, MN, WP replacing the “CFDTS” CNF on the U.S./Canada border. The new RNAV route would mitigate the proposed V-129 airway segment removal and provide route continuity and cross-border connectivity with the RNAV Route T-797 established by NAV CANADA within Canadian airspace.

The NAVAID radials listed in the VOR Federal Airway V-129 description in the regulatory text of this NPRM are unchanged and stated in degrees True north.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 2004 Jet Routes.

* * * * *

J-483 [Removed]

* * * * *

J-538 [Amended]

From Duluth, MN; Dells, WI; to Badger, WI.

* * * * *

J-562 [Removed]

* * * * *

Paragraph 2007 Canadian Area Navigation Routes.

* * * * *

Q-828 Duluth, MN (DLH) to FARID, MN [New]
Duluth, MN (DLH) | VORTAC | (Lat. 46°48′07.79″ N, long. 092°12′10.33″ W)
FARID, MN | WP | (Lat. 48°36′13.96″ N, long. 093°25′16.09″ W)

* * * * *

Q-945 Dickinson, ND (DIK) to OSMEE, ND [New]
Dickinson, ND (DIK) | VORTAC | (Lat. 46°51′36.14″ N, long. 102°46′24.60″ W)
OSMEE, ND | WP | (Lat. 48°59′59.19″ N, long. 100°49′57.63″ W)

* * * * *

Q-971 Minot, ND (MOT) to CIPTA, ND [New]
Minot, ND (MOT) | VOR/DME | (Lat. 48°15′37.21″ N, long. 101°17′13.46″ W)
CIPTA, ND | WP | (Lat. 48°59′55.84″ N, long. 102°20′17.11″ W)

Paragraph 6010(a) VOR Federal Airways.

* * * * *

V-129 [Amended]

From Spinner, IL; Peoria, IL; Davenport, IA; Dubuque, IA; INT Dubuque 348° and Nodine, MN, 150° radials; Nodine; Eau Claire, WI; Duluth, MN; Hibbing, MN; to International Falls, MN.

* * * * *

Paragraph 6013 Canadian Area Navigation Routes.

* * * * *

T-797 International Falls, MN (INL) to WUGOR, MN [New]
International Falls, MN (INL) | VOR/DME | (Lat. 48°33′56.87″ N, long. 093°24′20.44″ W)
WUGOR, MN | WP | (Lat. 48°35′58.85″ N, long. 093°25′44.53″ W)

Issued in Washington, DC, on December 3, 2024.
Richard Lee Parks,
Manager (A), Rules and Regulations Group.

[FR Doc. 2024-28727 Filed 12-6-24; 8:45 am]

BILLING CODE 4910-13-P